ENVIRONMENTAL PROTECTION AGENCY

[FRL-9650-2]

Clean Air Act Advisory Committee

AGENCY: Environmental Protection Agency (EPA).

ACTION: Request for Nominations to the Clean Air Act Advisory Committee.

SUMMARY: The U.S. Environmental Protection Agency (EPA) invites nominations from a diverse range of qualified candidates to be considered for appointment to its Clean Air Act Advisory Committee (CAAAC). Applications are due by May 1, 2012 and vacancies are anticipated to be filled by October 2012. Sources in addition to this Federal Register Notice may also be utilized in the solicitation of nominees.

DATES: All nominations should be received by May 1, 2012.

Background: The Clean Air Act Advisory Committee provides advice, information and recommendations on policy and technical issues associated with implementation of the Clean Air Act Amendments of 1990. The programs falling under the purview of the committee include: National Ambient Air Quality Standards, emissions from vehicles and vehicle fuels, air toxic emissions, operating permits and collecting fees, and carrying out new and expanded compliance authorities. Members are appointed by the EPA Administrator for two-year terms with the possibility of reappointment to a second and third term. The CAAAC usually meets 2-3 times annually with workgroups meeting more frequently. The average workload for the members is approximately 5 to 8 hours per month.

EPA is seeking nominations from academia, industry, non-governmental/environmental organizations, state and local government agencies, tribal governments, unions, trade associations, and utilities. EPA values and welcomes diversity. In an effort to obtain nominations of diverse candidates, EPA encourages nominations of women and men of all racial and ethnic groups. Although we are unable to offer compensation or an honorarium for your services, you may receive travel and per diem allowances, according to applicable federal travel regulations.

The following criteria will be used to evaluate nominees:

—Background and experiences that would help members contribute to the diversity of perspectives on the committee (e.g., geographic, economic, social, cultural, educational, and other considerations.

—Experience working at the national level on local governments issues.

—Experience working with air quality policy issues.

—Executive management level experience with membership in broad-based networks.

—Excellent interpersonal, oral and written communication, and consensus-building skills.

—Ability to volunteer time to attend meetings 2-3 times a year, participate in teleconference meetings, attend listening sessions with the Assistant Administrator or other senior-level officials, develop policy recommendations to the Administrator, and prepare reports and advice letters.

A nomination form is available at the CAAAC Web site www.epa.gov/air/caaac. Nominations should be submitted by May 1, 2012 and must include a resume and a short biography describing the professional and educational qualifications of the nominee as well as the nominee's current business address, email address, and daytime telephone number. Interested candidates may self-nominate.

To help the Agency in evaluating the effectiveness of its outreach efforts, please tell us how you learned of this opportunity.

ADDRESSES: Submit nominations to: Pat Childers, Designated Federal Officer, Office of Air and Radiation, U.S. Environmental Protection Agency (6102A), 1200 Pennsylvania Avenue NW.,Washington, DC 20460. You may also email nominations with subject line CAAAC Membership 2012 to childer.pat@epa.gov.

FOR FURTHER INFORMATION CONTACT: Pat Childers Designated Federal, Officer at (202) 564-1082.

Dated: March 15, 2012.
Pat Childers,
Designated Federal Officer, Clean Air Act Advisory Committee.

[FR Doc. 2012-6795 Filed 3-20-12; 8:45 am]

BILLING CODE 6560-50-P